DEPARTMENT OF TRANSPORTATION

Bureau of Transportation Statistics

[Docket Number OST-2023-0115]

Agency Information Collection Activity; Notice of Request for Approval To Collect New Information: Safe Maritime Transportation System (SafeMTS)—Voluntary Near-Miss Incident Reporting and Analysis System

AGENCY: Bureau of Transportation Statistics (BTS), Office of the Assistant Secretary for Research and Technology (OST-R), U.S. Department of Transportation.

ACTION: 30-Day notice of new information collection and request for comments.

SUMMARY: On August 8, 2023, the Bureau of Transportation Statistics (BTS) announced its intention in a Federal Register Notice to request that the Office of Management and Budget (OMB) approve the following information collection: SafeMTS—Voluntary Near-Miss Reporting and Analysis System, a voluntary program for confidential reporting of `near-misses' occurring on vessels within the Maritime Transportation System (MTS). BTS encouraged interested parties to submit comments to docket number 2023-0115 during the 60-day comment period. One comment was received, from the National Transportation Safety Board (NTSB) expressing the agency's support for such a program.

DATES: Written comments should be submitted within 30 days of publication of this notice.

ADDRESSES: BTS seeks public comments on its proposed information collection. Comments should address whether the information will have practical utility; the accuracy of the estimated burden hours of the proposed information collection, ways to enhance the quality, utility, and clarity of the information to be collected; and ways to minimize the burden of the collection of information on respondents, including the use of automated collection techniques or other forms of information technology. Send comments to the Office of Information and Regulatory Affairs, Office of Management and Budget, 725-17th Street NW, Washington, DC 20503, Attention: BTS Desk Officer.

FOR FURTHER INFORMATION CONTACT: Allison Fischman, Bureau of Transportation Statistics, Office of the Assistant Secretary for Research and Technology, USDOT, Office of Safety Data and Analysis, RTS-34 E36-303, 1200 New Jersey Avenue SE, Washington, DC 20590-0001, Phone No. (202) 748-0546; email: allison.fischman@dot.gov.

Data Confidentiality Provisions: The confidentiality of the Safe Maritime Transportation System (SafeMTS) data is protected under the Confidential Information Protection and Statistical Efficiency Act (CIPSEA) of 2018 (Pub. L.: 115-435 Foundations for Evidence-Based Policymaking Act of 2018, Title III of the Foundations for Evidence-Based Policymaking Act of 2018). In accordance with CIPSEA, only aggregated and non-identifying data will be made publicly available by BTS through its reports for statistical purposes only. BTS will not release information that might reveal the identity of individuals or organizations mentioned in event notices or reports without explicit consent of the respondent and any other affected entities.

SUPPLEMENTARY INFORMATION: The Federal Register Notice with a 60-day comment period soliciting comments on the following collection of information was published on August 8, 2023 at 88 FR 53594.

Title: Near-Miss Reporting and Analysis Program for the Maritime Transportation System.

OMB Control Number: Not yet known.

Type of Review: New collection.

Respondents: Businesses in the maritime industry that involve ownership or operation of vessels.

Estimated Number of Respondents: 100, submitted on a quarterly basis.

Estimated Time per Response: 1 hour.

Total Annual Burden: 400 hours.

Allison Fischman,
Acting Director, Office of Safety Data and Analysis.

[FR Doc. 2023-24467 Filed 11-3-23; 8:45 am]

BILLING CODE 4910-9X-P